OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 213.103.

FOR FURTHER INFORMATION CONTACT: Roland Edwards, Senior Executive Resource Services, Employee Services, 202-606-2246.

SUPPLEMENTARY INFORMATION: Appearing in the listing below are the individual authorities established under Schedules A, B, and C between October 1, 2010, and October 31, 2010. These notices are published monthly in the Federal Register at http://www.gpoaccess.gov/fr/. A consolidated listing of all authorities as of June 30 is also published each year. The following Schedules are not codified in the Code of Federal Regulations. These are agency-specific exceptions.

Schedule A

No Schedule A authorities to report during October 2010.

Schedule B

No Schedule B authorities to report during October 2010.

Schedule C

The following Schedule C appointments were approved during October 2010.

Office of Management and Budget

BOGS10025 Confidential Assistant for General Government Programs. Effective October 7, 2010.

Department of State

DSGS70118 Staff Assistant, Bureau of Political and Military Affairs. Effective October 1, 2010.

DSGS70119 Special Assistant, Bureau of Educational and Cultural Affairs. Effective October 4, 2010.

Department of the Treasury

DYGS00535 Deputy Assistant Secretary for Microeconomic Analysis (Economic Policy). Effective October 1, 2010.

DYGS00536 Senior Advisor for Domestic Finance. Effective October 8, 2010.

Department of Defense

DDGS17303 Deputy Director for Communication Plans and Integration. Effective October 8, 2010.

DDGS17306 Special Assistant to the Deputy Assistant Secretary of Defense (Europe/North Atlantic Treaty Organization and Europe. Effective October 8, 2010.

DDGS17307 Special Assistant to the Principal Deputy Assistant Secretary of Defense Legislative Affairs. Effective October 25, 2010.

Department of the Army

DWGS00102 Special Advisor of the Army (Installations and Environment). Effective October 19, 2010.

Department of Justice

DJGS00624 Director, Faith-Based and Neighborhood Partnerships for the Office of Justice Programs. Effective October 13, 2010.

DJGS00625 Senior Counsel Civil Division. Effective October 15, 2010.

DJGS00626 Special Assistant for the Office of Justice Programs. Effective October 29, 2010.

Housing and Urban Development

DMGS00797 Special Assistant for Immigration and Customs Enforcement. Effective October 29, 2010.

Department of the Interior

DIGS01202 White House Liaison to the Deputy Chief of Staff. Effective October 1, 2010.

DIGS01203 Special Assistant to the Secretary. Effective October 15, 2010.

DIGS01205 Senior Advisor for Indian Affairs. Effective October 22, 2010.

Department of Agriculture

DAGS01131 Chief of Staff for Natural Resources and Environment. Effective October 19, 2010.

DAGS20039 Chief of Staff for Food Safety. Effective October 20, 2010.

DAGS20150 Press Secretary for Communications. Effective October 29, 2010.

Department of Commerce

DCGS00444 Special Assistant for Outreach. Effective October 1, 2010.

DCGS00434 Chief of Staff for Industry and Security. Effective October 4, 2010.

DCGS60163 Special Advisor for Market Access and Compliance. Effective October 7, 2010.

DCGS00628 Confidential Assistant for the International Trade Administration. Effective October 18, 2010.

DCGS00603 Special Assistant for the International Trade Administration. Effective October 25, 2010.

DCGS00614 International Trade Administration Deputy Director for the National Export Initiative. Effective October 29, 2010.

DCGS00620 Director, Office of Legislative Affairs and Senior Trade Advisor for the International Trade Administration. Effective October 29, 2010.

Department of Labor

DLGS60190 Senior Legislative Officer for Congressional and Intergovernmental Affairs. Effective October 1, 2010.

DLGS60253 Special Assistant for Labor. Effective October 22, 2010.

Department of Heath and Human Services

DHGS60374 Confidential Assistant to the Department. Effective October 8, 2010.

DHGS60081 Special Assistant for the Office of Global Health Affairs. Effective October 15, 2010.

Department of Education

DBGS00112 Confidential Assistant for Strategy. Effective October 1, 2010.

DBGS00259 Confidential Assistant for Safe and Drug-Free Schools. Effective October 1, 2010.

DBGS60187 Special Assistant for Elementary and Secondary Education. Effective October 1, 2010.

DBGS00432 Confidential Assistant for Civil Rights. Effective October 15, 2010.

DBGS00346 Confidential Assistant for Elementary and Secondary Education. Effective October 28, 2010.

DBGS00370 Confidential Assistant for Vocational and Adult Education. Effective October 29, 2010.

DBGS00418 Confidential Assistant to the Chief of Staff. Effective October 29, 2010.

Environmental Protection Agency

EPGS10014 Director, Operations Staff to the Administrator. Effective October 1, 2010.

EPGS11001 Deputy Director of Scheduling to the Administrator. Effective October 12, 2010.

EPGS11002 Deputy Associate Administrator for the Office of External Affairs and Environmental Education for Public Affairs. Effective October 27, 2010.

Securities and Exchange Commission

SEOT61200 Confidential Assistant to a Commissioner. Effective October 13, 2010.

Department of Energy

DEGS00831 Director for Tribal and Intergovernmental Affairs for Congressional and Intergovernmental Affairs. Effective October 12, 2010.

DEGS00832 Senior Advisor to the Assistant Secretary (Energy Efficiency and Renewable Energy). Effective October 20, 2010.

Federal Energy Regulatory Commission

DRGS10012 Deputy Director, Office of External Affairs to the Chair-Federal Energy Regulatory Commission. Effective October 29, 2010.

Small Business Administration

SBGS00688 Senior Advisor for Government Contracting and Business Development. Effective October 22, 2010.

General Services Administration

GSGS01308 Special Assistant to the Chief of Staff. Effective October 6, 2010.

Export-Import Bank

EBGS14049 Speechwriter to the Senior Vice President, Communications. Effective October 15, 2010.

Occupational Safety and Health Review Commission

SHGS60008 Counsel to the Commission Member. Effective October 1, 2010.

Department of Transportation

DTGS60222 Director of Public Engagement for Transportation Policy. Effective October 8, 2010.

International Joint Commission

IJGS00001 Policy Advisor to the Commissioner (Chair). Effective October 15, 2010.

Authority: 5 U.S.C. 3301 and 3302; E.O. 10577, 3 CFR 1954-1958 Comp., p. 218.

John Berry,
Director, U.S. Office of Personnel Management.

[FR Doc. 2010-31661 Filed 12-16-10; 8:45 am]

BILLING CODE 6325-39-P